DEPARTMENT OF THE INTERIOR

Bureau of Land Management

[CA-160-1430-ES; CALA 0170973]

Notice of Realty Action; Recreation and Public Purposes (R&PP) Act Classification; CA

AGENCY: Bureau of Land Management, Interior.

ACTION: Notice of Realty Action.

SUMMARY: The Bureau of Land Management (BLM) has examined and found suitable for classification for conveyance under section 7 of the Taylor Grazing Act, 43 U.S.C. 315f, and the provisions of the Recreation and Public Purposes (R&PP) Act, as amended, 10 acres of public land in Tulare County, California. Tulare County has filed an application to purchase the 10-acre parcel of BLM land that contains a closed, solid waste landfill facility.

DATES: Comments of interested persons must be received in the BLM Bakersfield Field Office on or before October 1, 2007. Only written comments will be accepted.

ADDRESSES: Bureau of Land Management, Bakersfield Field Office, 3801 Pegasus Drive, Bakersfield, California 93308.

FOR FURTHER INFORMATION CONTACT: Rosalinda Estrada, Realty Specialist, BLM Bakersfield Field Office, (661) 391-6126. Detailed information concerning this action, including but not limited to documentation related to compliance with applicable environmental and cultural resource laws, is available for review at the BLM Bakersfield Field Office at the address above.

SUPPLEMENTARY INFORMATION: The following described public land in Tulare County, California has been examined and found suitable for classification for conveyance under section 7 of the Taylor Grazing Act, 43 U.S.C. 315f, and the provisions of the Recreation and Public Purposes (R&PP) Act as amended (43 U.S.C. 869 et seq.), and is hereby classified accordingly.

Mount Diablo Meridian

T. 22 S., R. 36 E.,

Sec. 20, NE¼SE¼SE¼.

The area described contains 10 acres, in Tulare County.

The land is not needed for any Federal purpose. The County of Tulare has leased the described property from BLM since January, 1963. The described property will be conveyed to the County of Tulare without possibility of reverter to the United States, pursuant to 43 CFR Subpart 2743. The conveyance is consistent with current Bureau land-use planning and would be in the public interest. The patent, if issued, will be subject to the provisions of the R&PP Act and applicable regulations of the Secretary of the Interior, in particular, but not limited to 43 CFR 2743.3-1, and will contain the following additional reservations, terms, and conditions:

1. A right-of-way thereon for ditches or canals constructed by the authority of the United States pursuant to the Act of August 30, 1890 (43 U.S.C. 945).

2. All minerals shall be reserved to the United States, together with the right to prospect for, mine, and remove the minerals under applicable laws and such regulations as the Secretary of the Interior may prescribe, including all necessary access and exit rights.

3. The patent, if issued, will be subject to all valid existing rights.

4. The patentee, by accepting a patent, covenants and agrees to indemnify, defend, and hold the United States and its officers, agents, representatives, and employees (hereinafter referred to in this clause as the “United States”), harmless from any costs, damages, claims, causes of action, penalties, fines, liabilities, and judgments of any kind or nature arising from the past, present, and future acts or omissions of the patentees or their employees, agents, contractors, or lessees, or any third-party, arising out of or in connection with the patentees' use, occupancy, or operations on the NE¼SE¼SE¼ section 20, T. 22 S., R. 36 E., M.D.M., Tulare County, California, the patented real property. This indemnification and hold harmless agreement includes, but is not limited to, acts and omissions of the patentees and their employees, agents, contractors, or lessees, or any third party, arising out of or in connection with the use and/or occupancy of the patented real property which has already resulted or does hereafter result in: (a) Violations of Federal, State, and local laws and regulations that are now or may in the future become, applicable to the real property; (b) judgments, claims, or demands of any kind assessed against the United States; (c) costs, expenses, or damages of any kind incurred by the United States; (d) releases or threatened releases of solid or hazardous waste(s) and/or hazardous substances(s), as defined by Federal or State environmental laws, off, on, into or under land, property and other interests of the United States; (e) activities by which solids or hazardous substances or wastes, as defined by Federal and State environmental laws are generated, released, stored, used or otherwise disposed of on the patented real property, and any cleanup response, remedial action or other actions related in any manner to said solid or hazardous substances or wastes; or (f) natural resource damages as defined by Federal and State law. This covenant shall be construed as running with the above described parcel of land patented or otherwise conveyed by the United States, and may be enforced by the United States in a court of competent jurisdiction.

5. The above described parcel is subject to the requirements of section 120(h) of the Comprehensive Environmental Response, Compensation and Liability Act, 42 U.S.C. 9620(h) (CERCLA), as amended by the Superfund Amendments and Reauthorization Act of 1988, 100 Stat. 1670.

6. Upon publication of this notice in the Federal Register, the public land described above is segregated from all forms of appropriation under the public land laws, including the general mining laws, except for conveyance under the R&PP Act. Interested parties may submit comments regarding the proposed conveyance classification of the lands for a period of 45 days from the date of publication of this notice in the Federal Register.

Classification Comments

Interested parties may submit comments involving the suitability of the land for a closed solid waste facility. Comments on the classification are restricted to whether the land is physically suited for the proposal, whether the use will maximize the future use or uses of the land, whether the use is consistent with local planning and zoning, or if the use is consistent with State and Federal programs. The classification of the land described in this Notice will become effective October 16, 2007. The land will not be offered for conveyance until after the classification becomes effective.

Application Comments

Interested parties may submit comments regarding the specific use proposed in the application and plan of development, whether the BLM followed proper administrative procedures in reaching the decision, or any other factor not directly related to the suitability of the land for a closed solid waste facility. Any adverse comments will be reviewed by the BLM California State Director who may sustain, vacate, or modify this realty action. In the absence of any adverse comments, this realty action will become the final determination of the Department of the Interior. Before including your address, phone number, e-mail address, or other personal identifying information in your comment, you should be aware that your entire comment—including your personal identifying information—may be made publicly available at any time. While you can ask us in your comment to withhold your personal identifying information from public review, we cannot guarantee that we will be able to do so. In the absence of any adverse comments, the classification of the land described in this notice will become effective October 16, 2007. The land will not be available for conveyance until after the classification becomes effective.

(Authority: 43 CFR 2741.5)

J. Anthony Danna,
Deputy State Director, Natural Resources (CA-930).

[FR Doc. E7-16200 Filed 8-16-07; 8:45 am]

BILLING CODE 4310-40-P